DEPARTMENT OF AGRICULTURE

Rural Business-Cooperative Service

Inviting Preapplications for Rural Cooperative Development Grants

AGENCY: Rural Business-Cooperative Service, USDA.

ACTION: Notice of funding availability.

SUMMARY: The Rural Business-Cooperative Service (RBS) announces the availability of approximately $4 million in competive Rural Cooperative Development Grant (RCDG) funds for fiscal year (FY) 2000. Of this amount, $1.5 million will be reserved for preapplications whose focus is on assistance to small, minority producers through their cooperative businesses. The intended effect of this notice is to solicit preapplications for FY 2000 and award grants before September 1, 2000.

DATES: The deadline for receipt of a preapplication is June 2, 2000. Preapplications received after that date will not be considered. Preapplications should be sent to the State Rural Development Offices (see attached list for addresses).

ADDRESSES: Entities wishing to apply for assistance should contact their USDA Rural Development State office to receive further information and copies of the preapplication package.

FOR FURTHER INFORMATION CONTACT: James E. Haskell, Assistant Deputy Administrator, Cooperative Services, Rural Business-Cooperative Service, U.S. Department of Agriculture, Stop 3250, Room 4016, South Agriculture Building, 1400 Independence Avenue, SW., Washington, DC 20250-3250. Telephone (202) 720-8460.

SUPPLEMENTARY INFORMATION: The Rural Technology and Cooperative Development Grants (RTCDG) program is authorized by section 310B(e) of the Consolidated Farm and Rural Development Act (7 U.S.C. 1932) and regulations are contained in 7 CFR part 4284, subpart F. The primary objective of the RCDG program is to improve the economic condition of rural areas through cooperative development. The program is administered through USDA Rural Development State offices acting on behalf of RBS.

Grants will be awarded on a competitive basis to nonprofit corporations and institutions of higher education based on specific selection criteria. The priorities described in this paragraph will be used by RBS to rate preapplications. RBS review of preapplications will include the complete preapplication package submitted to the Rural Development State office. Points will be distributed according to ranking with other preapplications.

(a) Priority will be given to applications that:

(1) Demonstrate a proven track record in administering a nationally coordinated or regionally or State-wide operated project;

(2) Demonstrate previous expertise in providing technical assistance to cooperatives in rural areas;

(3) Demonstrate the ability to assist in the retention of business, facilitate the establishment of cooperatives and new cooperative approaches, or generate employment opportunities that will improve the economic conditions of rural areas;

(4) Demonstrate the ability to create horizontal linkages among cooperative businesses within and among various sectors in rural areas of the United States and vertical linkages to domestic and international markets;

(5) Provide technical assistance and other services to underserved and economically distressed rural areas of the United States;

(6) Commit to providing greater than a 25 percent matching contribution with private funds and in-kind contributions;

(7) Evidence transferability or demonstration value to assist rural areas outside of project area; and

(8) Demonstrate that any cooperative development activity is consistent with positive environmental stewardship.

Fiscal Year 2000 Preapplication Submission

Preapplications must include a clear statement of the goals and objectives of the project and a plan which describes the proposed project as required by the statute and 7 CFR part 4284, subpart F. Each preapplication received in the State office will be reviewed to determine if the preapplication is consistent with the eligible purposes outlined in 7 CFR part 4284, subpart F. Preapplications without supportive data to address selection criteria will not be considered. Also, since the cooperative center concept is to provide a wide range of technical assistance services, including feasibility analysis, to all cooperatives or potential cooperatives within the project area, preapplications that focus on a single cooperative will not be considered. Copies of 7 CFR part 4284, subpart F, will be provided to any interested applicant by making a request to the Rural Development State office or RBS National office.

Preapplications must be completed and submitted to the State Rural Development office as soon as possible, but no later than June 2, 2000. Preapplications received after June 2 will not be considered.

Preapplications must contain the documentation delineated in 7 CFR 4284.528. For ease of locating information, please include in each preapplication information as follows:

(a) A detailed Table of Contents containing page numbers for each component of the preapplication.

(b) A project summary of 250 words or less on a separate page. This page should include the title of the project and the names of the primary project contacts and the applicant organization, followed by the summary. The summary should be self-contained and should describe the overall goals, relevance of the project, and a listing of all organizations involved in the project. The project summary should immediately follow the Table of Contents.

(c) A separate one-page information sheet which lists each of the eight evaluation criteria followed by the page numbers of all relevant material and documentation contained in the preapplication which supports that criteria. This page should immediately follow the project summary; and

(d) For applicants who have received funding under the Rural Cooperative Development Grant program in FY 1997, FY 1998, or FY 1999 a summation, not to exceed three pages, of progress and results for all projects funded fully or partially by the RCDG program in those years, including the status of cooperative businesses organized and all eligible grant purpose activities listed under 7 CFR 4284.515.

The National office will score applications based only on the grant selection criteria contained in 7 CFR part 4284, subpart F and listed above, and will select awardees subject to the availability of funds and the awardee's satisfactory submission of a formal application and related materials in accordance with subpart F. Entities submitting preapplications that are selected for award will be invited by the State office to submit a formal application prior to September 1. It is anticipated that grant awardees will be selected by September 1, 2000.

Dated: April 17, 2000.
Dayton Watkins,
Administrator, Rural Business-Cooperative Services.

U.S. Department of Agriculture Rural Development State Offices (Revised 00/04/19)

ALABAMA

USDA Rural Development State Office

Sterling Center, Suite 601

4121 Carmichael Road

Montgomery, AL 36106-3683

ALASKA

USDA Rural Development State Office

800 West Evergreen, Suite 201

Palmer, AK 99645-6539

ARIZONA

USDA Rural Development State Office

3003 North Central Avenue, Suite 900

Phoenix, AZ 85012-2906

ARKANSAS

USDA Rural Development State Office

700 West Capitol Ave., Room 3416

Little Rock, AR 72201-3225

CALIFORNIA

USDA Rural Development State Office

430 G Street, Agency 4169

Davis, CA 95616-4169

COLORADO

USDA Rural Development State Office

655 Parfet Street, Room E-100

Lakewood, CO 80215

DELAWARE-MARYLAND

USDA Rural Development State Office

4607 South Dupont Hwy

P.O. Box 400

Camden, DE 19934-9998

GEORGIA

USDA Rural Development State Office

Stephens Federal Building

355 E. Hancock Avenue

Athens, GA 30601-2768

HAWAII

USDA Rural Development State Office

Federal Building, Room 311

154 Waianuenue Avenue

Hilo, HI 96720

IDAHO

USDA Rural Development State Office

9173 West Barnes Dr., Suite A1

Boise, ID 83709

ILLINOIS

USDA Rural Development State Office

Illini Plaza, Suite 103

1817 South Neil Street

Champaign, IL 61820

INDIANA

USDA Rural Development State Office

5975 Lakeside Boulevard

Indianapolis, IN 46278

IOWA

USDA Rural Development State Office

Federal Building, Room 873

210 Walnut Street

Des Moines, IA 50309

KANSAS

USDA Rural Development State Office

1200 SW Executive Drive

P.O. Box 4653

Topeka, KS 66615

LOUISIANA

USDA Rural Development State Office

3727 Government Street

Alexandria, LA 71302

MAINE

USDA Rural Development State Office

444 Stillwater Avenue, Suite 2

P.O. Box 405

Bangor, ME 04402-0405

MASS/RI/CONN

USDA Rural Development State Office

451 West Street

Amherst, MA 01002

MICHIGAN

USDA Rural Development State Office

3001 Coolidge Road, Suite 200

East Lansing, MI 48823

MINNESOTA

USDA Rural Development State Office

410 AgriBank Building

375 Jackson Street

St. Paul, MN 55101-1853

MISSISSIPPI

USDA Rural Development State Office

Federal Building, Suite 831

100 West Capitol Street

Jackson, MS 39269

MISSOURI

USDA Rural Development State Office

601 Business Loop 70 West

Parkade Center, Suite 235

Columbia, MO 65203

FLORIDA/VI

USDA Rural Development State Office

4440 NW 25th Place

P.O. Box 147010

Gainesville, FL 32614-7010

NEBRASKA

USDA Rural Development State Office

Federal Building, Room 152

100 Centennial Mall N

Lincoln, NE 68508

NEVADA

USDA Rural Development State Office

1390 South Curry Street

Carson City, NV 89703-9910

NEW JERSEY

USDA Rural Development State Office

Transfield Plaza, Suite 22

790 Woodlane Road

Mt. Holly, NJ 08060

NEW MEXICO

USDA Rural Development State Office

6200 Jefferson Street NE, Room 255

Albuquerque, NM 87109

NEW YORK

USDA Rural Development State Office

The Galleries of Syracuse

441 South Salina Street Suite 357

Syracuse, NY 13202-2541

NORTH CAROLINA

USDA Rural Development State Office

4405 Bland Road, Suite 260

Raleigh, NC 27609

KENTUCKY

USDA Rural Development State Office

771 Corporate Drive, Suite 200

Lexington, KY 40503

OKLAHOMA

USDA Rural Development State Office

100 USDA, Suite 108

Stillwater, OK 74074-2654

OREGON

USDA Rural Development State Office

101 SW Main Street, Suite 1410

Portland, OR 97204-3222

PENNSYLVANIA

USDA Rural Development State Office

One Credit Union Place, Suite 330

Harrisburg, PA 17110-2996

PUERTO RICO

USDA Rural Development State Office

New San Juan Office Building, Rm. 501

159 Carlos E. Chardon Street

Hato Rey, PR 00918-5481

SOUTH CAROLINA

USDA Rural Development State Office

Strom Thurmond Federal Building

1835 Assembly Street, Room 1007

Columbia, SC 29201

SOUTH DAKOTA

USDA Rural Development State Office

Federal Building, Room 210

200 4th Street SW

Huron, SD 57350

MONTANA

USDA Rural Development State Office

Unit 1, Suite B

P.O. Box 850

900 Technology Boulevard

Bozeman, MT 59715

UTAH

USDA Rural Development State Office

Wallace F. Bennett Federal Building

125 South State Street, Room 4311

P.O. Box 11350

Salt Lake City, UT 84147-0350

VERMONT/NH

USDA Rural Development State Office

City Center, 3rd Floor, 89 Main Street

Montpelier, VT 05602

VIRGINIA

USDA Rural Development State Office

Culpeper Building, Suite 238

1606 Santa Rosa Road

Richmond, VA 23229

WASHINGTON

USDA Rural Development State Office

1835 Blacklake Boulevard, SW.

Suite B

Olympia, WA 98512-5715

WEST VIRGINIA

USDA Rural Development State Office

75 High Street, Room 320

Morgantown, WV 26505-7500

WISCONSIN

USDA Rural Development State Office

4949 Kirschling Court

Stevens Point, WI 54481

NORTH DAKOTA

USDA Rural Development State Office

Federal Building, Room 208

220 East Rosser, P.O. Box 1737

Bismarck, ND 58502-1737

OHIO

USDA Rural Development State Office

Federal Building, Room 507

200 North High Street

Columbus, OH 43215-2477

TENNESSEE

USDA Rural Development State Office

3322 West End Avenue, Suite 300

Nashville, TN 37203-1084

TEXAS

USDA Rural Development State Office

Federal Building, Suite 102

101 South Main

Temple, TX 76501

WYOMING

USDA Rural Development State Office

100 East B, Federal Building, Rm 1005

P.O. Box 820

Casper, WY 82602

[FR Doc. 00-10227 Filed 4-24-00; 8:45 am]

BILLING CODE 3410-XY-P